DEPARTMENT OF THE INTERIOR

Fish and Wildlife Service

50 CFR Part 17

RIN 1018-AI45

Endangered and Threatened Wildlife and Plants; Threatened Status and Special Regulation for the Mountain Plover

AGENCY: Fish and Wildlife Service, Interior.

ACTION: Proposed rule; reopening of comment period.

SUMMARY: On December 5, 2002, we, the Fish and Wildlife Service (Service), published a notice of new information and reopened the comment period to propose listing the mountain plover as a threatened species (67 FR 72396), under authority of the Endangered Species Act of 1973, as amended (Act). We hereby give notice that the comment period is reopened until March 21, 2003.

DATES: The comment period on the proposed listing rule is reopened until March 21, 2003.

ADDRESSES: Written comments and materials should be sent to the Assistant Field Supervisor, U.S. Fish and Wildlife Service, 764 Horizon Drive, Building B, Grand Junction, Colorado 81506-3946. You may send electronic mail (e-mail) comments to fw6_mountainplover@fws.gov. You also may obtain a copy of the 1999 proposed rule to list the mountain plover (64 FR 7587) and other pertinent documents from this office, or access them at our Web site at http://www.r6.fws.gov/mtnplover/. We will make comments and materials we receive available for public inspection, by appointment, during normal business hours at the above address.

FOR FURTHER INFORMATION CONTACT: Robert Leachman at the above address; telephone: 970-243-2778; facsimile: 970-245-6933; or e-mail: robert_leachman@fws.gov.

SUPPLEMENTARY INFORMATION:

Background

On February 16, 1999, we published a proposed rule to list the mountain plover as a threatened species (64 FR 7587). Higher priority listing actions precluded listing work on the mountain plover during Fiscal Years 2000 and 2001. On October 16, 2001, Earthjustice (representing the Biodiversity Legal Foundation, Biodiversity Associates, and Center for Native Ecosystems) submitted a 60-day notice of intent to sue to the Secretary of the Department of the Interior and the Fish and Wildlife Service Regional Director for failure to meet listing deadlines for the mountain plover, as required by section 4(b)(6)(A) of the Act. We responded by publishing a notice of new information and reopening the comment period on the listing proposal on December 5, 2002 (67 FR 72396). The comment period closed on February 3, 2003.

Section 4(b)(5)(E) of the Act requires that public hearings regarding proposals for listing be held promptly when requested by the public within 45 days of the proposal's publication in the Federal Register. We received public hearing requests and requests to extend the comment period during the allotted time period from California Congressman Bob Filner, the Oklahoma Farm Bureau, the Kansas Farm Bureau, and Holland and Hart LLP, representing the Petroleum Association of Wyoming. Following discussions with each of these parties, each agreed that informational meetings rather than formal hearings would be acceptable. Therefore, we scheduled, advertised, and conducted informational meetings in El Centro, California, and Elkhart, Kansas. We are also reopening the comment period in response to these requests. Comments already submitted in response to the December 5, 2002, rulemaking document need not be resubmitted and will be fully considered in our decisionmaking on this proposed rule.

Author

The author of this notice is Robert Leachman (see FOR FURTHER INFORMATION CONTACT).

Authority

The authority for this action is the Endangered Species Act of 1973 (16 U.S.C. 1531 et seq.).

Dated: February 11, 2003.
Steve Williams,
Director, Fish and Wildlife Service.

[FR Doc. 03-4152 Filed 2-20-03; 8:45 am]

BILLING CODE 4310-55-P